DEPARTMENT OF HEALTH AND HUMAN SERVICES

Office of the Secretary

Office of the National Coordinator for Health Information Technology; Delegation of Authorities

Notice is hereby given that I have delegated to the National Coordinator for Health Information Technology (National Coordinator), or his or her successor, the authorities vested in the Secretary of the Department of Health and Human Services, under sections 106(b)(1)(C) and (D) and 106(b)(3)(A) and (B) of the of Medicare Access and CHIP Reauthorization Act (Pub. L. 114-10).

These authorities may be re-delegated.

I hereby ratify and affirm any actions taken by the National Coordinator or by any other officials of the Office of the National Coordinator for Health Information Technology, which, in effect, involved the exercise of these authorities delegated herein prior to the effective date of this delegation. This delegation is effective upon date of signature.

Dated: April 12, 2016.
Sylvia M. Burwell,
Secretary.

[FR Doc. 2016-09128 Filed 4-19-16; 8:45 am]

BILLING CODE 4150-45-P